DEPARTMENT OF TRANSPORTATION

Federal Motor Carrier Safety Administration

[Docket No. FMCSA-2002-11732]

Notice of Request for Renewal of a Currently Approved Information Collection: Financial Responsibility, Trucking and Freight Forwarding

AGENCY: Federal Motor Carrier Safety Administration (FMCSA), DOT.

ACTION: Notice and request for comments.

SUMMARY: In accordance with the requirement of section 3506(c)(2)(A) of the Paperwork Reduction Act of 1995, this notice announces the intention of FMCSA to request the Office of Management and Budget (OMB) to renew its clearance of the currently approved information collection identified below under Supplementary Information. This information collection provides registered motor carriers, property brokers, and freight forwarders a means of meeting financial security documentation requirements.

DATES: Comments must be submitted on or before May 28, 2002.

ADDRESSES: Mail or hand deliver comments to the U.S. Department of Transportation, Dockets Management Facility, Room PL-401, 400 Seventh Street, SW., Washington, DC 20590. Comments may also be submitted on the Internet by using the universal resource locator (URL) at: http://dmses.dot.gov/submit, or by fax to (202) 493-2251. Internet users may view all comments received by the Document Management System (DMS) on the Internet at: http://dms.dot.gov. Please follow the instructions online for more information and help. Please include the docket number appearing in the heading of this document on your comment. All comments received will be available for examination and copying at the above address from 9 a.m. to 5 p.m., e.t., Monday through Friday, except Federal holidays. If you would like to be notified when your comments are received, you must include a self-addressed, stamped postcard, or you may print the acknowledgement page that appears after submitting comments electronically.

FOR FURTHER INFORMATION CONTACT: Ms. Marian Lee, (202) 358-7028, Insurance Compliance Division (MC-ECI), Federal Motor Carrier Safety Administration, U.S. Department of Transportation, 400 Seventh Street, SW., Washington, DC 20590. Office hours are from 7:45 a.m. to 4:15 p.m., e.t., Monday through Friday, except Federal holidays.

SUPPLEMENTARY INFORMATION: Title: Financial Responsibility, Trucking and Freight Forwarding.

OMB Number: 2126-0017.

Background: The Secretary of Transportation (Secretary) is authorized to register for-hire motor carriers of regulated commodities under the provisions of 49 U.S.C. 13902, surface freight forwarders under the provisions of 49 U.S.C. 13903, and property brokers under the provisions of 49 U.S.C. 13904. These persons may conduct transportation services only if they are registered pursuant to 49 U.S.C. 13901. The Secretary has delegated authority pertaining to these registrations to the FMCSA. Registration remains valid only as long as the transportation entities maintain, on file with the FMCSA, evidence of the required levels of insurance coverage pursuant to 49 U.S.C. 13906. Regulations governing financial responsibility requirements are found at 49 CFR 387.

Forms BMC-91, 91X, and 82 provide evidence of the required coverage for bodily injury and property damage (BI&PD) liability. Forms BMC-34 and 83 establish compliance with cargo liability requirements. Forms BMC-84 and 85 are filed by brokers to comply with the requirement for a $10,000 surety bond or trust fund agreement. Forms BMC-35, 36, and 85 cancel prior filings. Forms BMC-90 and 32 are endorsements that must be attached to BI&PD and cargo insurance policies, respectively, but are not filed with the FMCSA.

Motor carriers can also apply to self-insure BI&PD and/or cargo liability in lieu of filing certificates of insurance or surety bonds with the FMCSA. Form BMC-40 is the application used to apply for self-insurance authority.

Respondents: Motor carriers, freight forwarders, and brokers.

Estimated Average Burden per Response: The estimated average burden per response for the BMC-40 is 40 hours. The estimated average burden per response for each of the other forms (BMC-32, 34, 35, 36, 82, 83, 84, 85, 90, 91, and 91X) is 10 minutes per form.

Estimated Total Annual Burden: The estimated total annual burden is 200 hours for the BMC-40 based on 5 filings per year [5 filings per year × 40 hours to complete = 200]. The estimated total annual burden for all of the other forms described above is 45,025 hours based on 270,152 filings per year [270,152 filings per year × 10 minutes to complete divided by 60 minutes = 45,025 total burden hours]. Therefore, the total burden hour request is 45,225 [200 estimated annual burden hours for the BMC-40 + 45,025 hours for the other forms = 45,225 total burden hours].

Frequency: Certificates of insurance, surety bonds, and trust fund agreements are required when the transportation entity first registers with the FMCSA and then when such coverages are replaced. Notices of cancellation are required only when such certificates of insurance, surety bonds or trust fund agreements are canceled. Form BMC-40 is generally filed only when a carrier seeks approval to self-insure its BI&PD and/or cargo liability.

Public Comments Invited: Interested parties are invited to send comments regarding any aspect of this information collection, including but not limited to: (1) The necessity and utility of the information collection for the proper performance of the functions of the FMCSA; (2) the accuracy of the estimated burden; (3) ways to enhance the quality, utility, and clarity of the collected information; and (4) ways to minimize the collection burden without reducing the quality of the collected information. Comments submitted in response to this notice will be summarized and/or included in the request for OMB's clearance for a renewal of this information collection.

Authority: The Paperwork Reduction Act of 1995, 44 U.S.C. chapter 35, as amended, and 49 CFR 1.73.

Issued on: March 18, 2002.
Joseph M. Clapp,
Administrator.

[FR Doc. 02-7159 Filed 3-25-02; 8:45 am]

BILLING CODE 4910-EX-P